DEPARTMENT OF ENERGY

Federal Energy Regulatory Commission

[Docket No. RP04-223-000]

Gulf South Pipeline Company, LP; Notice of Proposed Changes to FERC Gas Tariff

March 24, 2004.

Take notice that on March 19, 2004, Gulf South Pipeline Company, LP (Gulf South) tendered for filing as part of its FERC Gas Tariff, Sixth Revised Volume No. 1 the following tariff sheets, to become effective April 18, 2004:

Sixth Revised Sheet No. 1415

Fourth Revised Sheet No. 1416

First Revised Sheet No. 1417

Gulf South states that it proposes to modify section 7.7(a) of its FERC Gas Tariff to add two types of discounted transactions that would not be considered material deviations from its pro forma Service Agreements.

Gulf South states that copies of this filing have been served upon Gulf South's customers, State commissions and other interested parties.

Any person desiring to be heard or to protest said filing should file a motion to intervene or a protest with the Federal Energy Regulatory Commission, 888 First Street NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-715 Filed 3-30-04; 8:45 am]

BILLING CODE 6717-01-P